ENVIRONMENTAL PROTECTION AGENCY

[FRL-9901-90-OEI]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et. seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or email at westlund.rick@epa.gov and please refer to the appropriate EPA Information Collection Request (ICR) Number.

SUPPLEMENTARY INFORMATION:

OMB Responses to Agency Clearance Requests

OMB Approvals

EPA ICR Number 2045.05; NESHAP for Automobile and Light-duty Truck Surface Coating; 40 CFR part 63 subparts A and IIII; was approved on 09/09/2013; OMB Number 2060-0550; expires on 09/30/2016; Approved without change.

EPA ICR Number 1967.05; NESHAP for Stationary Combustion Turbines; 40 CFR part 63 subparts A and YYYY; was approved on 09/09/2013; OMB Number 2060-0540; expires on 09/30/2016; Approved without change.

EPA ICR Number 1759.06; Pesticide Worker Protection Standard Training and Notification; 40 CFR part 170; was approved on 09/12/2013; OMB Number 2070-0148; expires on 09/30/2016; Approved with change.

EPA ICR Number 1031.10; Recordkeeping and Reporting Requirements for Allegations of Significant Adverse Reactions to Human Health or the Environment (TSCA Section 8(c)); 40 CFR part 717; was approved on 09/12/2013; OMB Number 2070-0017; expires on 09/30/2016; Approved with change.

EPA ICR Number 2456.01; Willingness to Pay for Improved Water Quality in the Chesapeake Bay (New); was approved on 09/17/2013; OMB Number 2010-0043; expires on 09/30/2015; Approved with change.

EPA ICR Number 1664.09; National Oil and Hazardous Substances Pollution Contingency Plans (Renewal); 40 CFR 300.900; was approved on 09/23/2013; OMB Number 2050-0141; expires on 09/30/2016; Approved without change.

EPA ICR Number 1086.11; NSPS for Onshore Natural Gas Processing Plants; 40 CFR part 60 subparts A, KKK, LLL; was approved on 09/23/2013; OMB Number 2060-0120; expires on 03/31/2014; Approved without change.

EPA ICR Number 2127.03; Conditional Exclusions from Solid Waste and Hazardous Waste for Solvent-Contaminated Wipes (Final Rule); 40 CFR 261.4(a)(26) and 261.4(b)(18); was approved on 09/23/2013; OMB Number 2050-0209; expires on 09/30/2016; Approved without change.

EPA ICR Number 2358.04; Nitrogen Oxides Ambient Air Monitoring (Renewal); 40 CFR part 58; was approved on 09/25/2013; OMB Number 2060-0638; expires on 09/30/2016; Approved without change.

EPA ICR Number 1659.08; NESHAP for Gasoline Distribution Facilities; 40 CFR part 63 subparts A and R; was approved on 09/25/2013; OMB Number 2060-0325; expires on 09/30/2016; Approved without change.

EPA ICR Number 1696.08; Fuels and Fuel Additives: Health-Effects Research Requirements for Manufacturers; 40 CFR part 79 subpart F; was approved on 09/30/2013; OMB Number 2060-0297; expires on 09/30/2016; Approved without change.

Comment Filed

EPA ICR Number 2468.01; NPDES Electronic Reporting (Proposed Rule); in 40 CFR parts 122, 123, 127, 403, 501, and 503; OMB filed comment on 09/09/2013.

EPA ICR Number 2170.05; Air Emissions Reporting Requirements (AERR) (Proposed Rule for Revisions to Lead (Pb) Reporting Threshold and Clarifications to Technical Reporting Details); in 40 CFR part 51; OMB filed comment on 09/25/2013.

Withdrawn and Continue

EPA ICR Number 2367.02; Consumer Research through Focus Groups to Develop Improved Labeling for Pesticide Products; Withdrawn from OMB on 09/11/2013.

John Moses,
Director, Collections Strategies Division.

[FR Doc. 2013-24789 Filed 10-22-13; 8:45 am]

BILLING CODE 6560-50-P